DEPARTMENT OF COMMERCE

National Oceanic and Atmospheric Administration

[I.D. 081804E]

North Pacific Fishery Management Council; Notice of Committee Meeting

AGENCY: National Marine Fisheries Service (NMFS), National Oceanic and Atmospheric Administration (NOAA), Commerce.

ACTION: Notice of a public committee meeting.

SUMMARY: The North Pacific Fishery Management Council's (NPFMC) Crab Plan Team will meet in Juneau, AK.

DATES: The meeting will be held on September 20, 2004, from 10:30 a.m. to 5 p.m., September 21, 2004, from 9 a.m. to 5 p.m., and September 22, 2004 from 9a.m. to 12 noon.

ADDRESSES: The meeting will be held at NMFS, 709 West 9th Street, Sustainable Fisheries Conference Room, Juneau, AK 99501.

Council address: North Pacific Fishery Management Council, 605 W. 4th Ave., Suite 306, Anchorage, AK 99501-2252.

FOR FURTHER INFORMATION CONTACT: Diana Stram, NPFMC, 907-271-2809.

SUPPLEMENTARY INFORMATION: The committee's agenda includes the following issues: Review and approve agenda, election of officers and any additional membership issues, prepare Stock Assessment Fishery Evaluation (SAFE) report, review status of stocks, review results of snow crab stock assessment, review State Guideline Harvest Levels, receive progress report on revising crab overfishing definitions, discuss current and future research issues.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen, 907-271-2809, at least 5 working days prior to the meeting date.

Dated: August 27, 2004.
Alan D. Risenhoover,
Acting Director, Office of Sustainable Fisheries, National Marine Fisheries Service.

[FR Doc. E4-2034 Filed 9-1-04; 8:45 am]

BILLING CODE 3510-22-S